DEPARTMENT OF TRANSPORTATION

Federal Aviation Administration

Sixth Drone Advisory Committee (DAC) Meeting

AGENCY: Federal Aviation Administration (FAA), US Department of Transportation.

ACTION: Sixth DAC Meeting.

SUMMARY: The FAA is issuing this notice to advise the public of the Sixth DAC Meeting.

DATES: The meeting will be held on March 9, 2018, 9:00 a.m.-3:30 p.m. Eastern.

ADDRESSES: The meeting will be held at the MITRE-1 Building, 7525 Colshire Drive, McLean, VA 22102-7539.

FOR FURTHER INFORMATION CONTACT: Al Secen at asecen@rtca.org or 202-330-0647, or The RTCA Secretariat, 1150 18th Street NW, Suite 910, Washington, DC 20036, or by telephone at 202-833-9339, fax at 202-833-9434, or website at http://www.rtca.org.

SUPPLEMENTARY INFORMATION: Pursuant to section 10(a)(2) of the Federal Advisory Committee Act (Pub. L. 92-463, 5 U.S.C., App.), notice is hereby given of the Sixth DAC Meeting. The DAC is a component of RTCA, which is a Federal Advisory Committee. The agenda will likely include, but may not be limited to, the following:

Friday, March 9, 2018

• Call to Order; Official Statement of the Designated Federal Officer

• Welcome and Introductions; Review of the Fifth DAC Meeting

• Approval of Minutes from the Fifth DAC Meeting

• Chairman's Report

• FAA Update

• DAC Subcommittee (SC) Co-Chairs' Report

• DACSC Task Group 3's (TG3) UAS Funding Report

• Discussion of TG3's Report

• Discussion of FAA's Response to DAC Recommendations

• Discussion of DAC Engagement in the Future

• New Business/Agenda Topics

• Closing Remarks

• Adjourn

Attendance is open to the interested public. With the approval of the chairman, members of the public may present oral statements at the meeting. Persons wishing to present statements or obtain information should contact the person listed in the FOR FURTHER INFORMATION, CONTACT section. Members of the public may present a written statement to the committee at any time.

Issued in Washington, DC, on February 14, 2018.
Christopher W. Harm,
Unmanned Aircraft Systems (UAS) Stakeholder and Committee Liaison, AUS-10, UAS Integration Office, FAA.

[FR Doc. 2018-03373 Filed 2-16-18; 8:45 am]

BILLING CODE 4910-13-P